DEPARTMENT OF THE INTERIOR

Bureau of Land Management

[UT-020-03-2821-HU-Q157]

Emergency Restriction on Public Lands: Tooele County, UT

AGENCY: Bureau of Land Management, Interior.

ACTION: Emergency restriction on public land in Tooele County, Utah.

SUMMARY: The Salt Lake Field Office, Bureau of Land Management (BLM) is giving notice it is temporarily restricting a portion of public lands from all forms of public use from November 15, 2003, to November 15, 2005. The restricted area is near Stockton, Tooele County, Utah. The affected public lands include:

T. 4 S., R. 4 W., SLM,

Sec. 18, all public lands in the SW1/4,

Sec. 19, all public lands in the NW1/4NW1/4;

T. 4 S., R. 5 W.,

Sec. 13, all public lands east of Highway #36 in the E1/2SE1/4,

Sec. 24, all public lands in the NE1/4NE1/4.

The area closed contains 240 acres, more or less.

All public use within the above designated area will not be allowed during this temporary restriction in order to protect the public health and safety, allow for successful rehabilitation activities, reestablishment of native vegetation and prevent the spread of noxious and invasive weed species. BLM will post signs at all entry points to the area. You may obtain maps of the restricted area and information from the BLM Salt Lake Field Office.

DATES: This restriction will be in effect from December 31, 2003, until November 15, 2005. At the end of this 2 year period, BLM will evaluate the level of public health and safety and the success of the rehabilitation and determine if the restriction should be continued for an additional period of time.

FOR FURTHER INFORMATION CONTACT: Michael Nelson, Realty Specialist at 2370 S. 2300 W. Salt Lake City, Utah 84119, (801) 977-4355.

Discussion of the Rules: This restriction to public access and use will serve to protect the health and safety of the public from exposure to high levels of lead and arsenic present in historic mine tailings within the area of the Bauer Fire #Q157, a lightning-caused wildfire that began on July 25, 2003, and was controlled on July 27, 2003. The area where the wildfire occurred is within an urban interface heavily used for Off Highway Vehicles (OHV) play, target shooting activities, and other forms of dispersed recreation. In order to protect the public from exposure to hazardous mine tailings recently found to occur in the area, prevent the spread of noxious weeds, and allow for the successful reestablishment of vegetation on the recently burned steep slopes, the area must be temporarily restricted from all forms of public use.

A map depicting the restricted area is available for public inspection at the Bureau of Land Management, Salt Lake Field Office. Therefore, we find good cause to make this restriction effective immediately, notwithstanding the notice and comment requirements of the Administrative Procedure Act, 5 U.S.C. 553. Under the authority of 43 CFR 9268.3(d)(1)(I) and 43 CFR 8364.1(a), BLM will enforce the following rule on public lands within the restricted area: You must not enter the restricted area.

Exemptions: Persons who are exempt from these rules include: (1) Any Federal, State, or local officer or employee in the scope of their duties; (2) Members of any organized rescue or fire-fighting force in performance of an official duty; and (3) Any person authorized in writing by the Bureau of Land Management.

Penalties: The authorities for this closure are section 303(a) of the Federal Land Policy and Management Act of 1976 (43 U.S.C. 1733(a)) and 43 CFR 8360.0-7. Any person who violates this restriction may be tried before a United States Magistrate and fined no more than $1,000 or imprisoned for no more than 12 months, or both. Such violations may also be subject to the enhanced fines provided for by 18 U.S.C. 3571.

Dated: November 12, 2003.
Glenn A. Carpenter,
Field Office Manager, Salt Lake Field Office.

[FR Doc. 03-32238 Filed 12-30-03; 8:45 am]

BILLING CODE 4310-$$-P